DEPARTMENT OF ENERGY

Federal Energy Regulatory Commission

Combined Notice of Filings #2

Take notice that the Commission received the following electric rate filings:

Docket Numbers: ER10-3355-001

Applicants: Entergy Arkansas, Inc.

Description: Entergy Arkansas, Inc. submits tariff filing per 35.17(b): Amendment to Conway Revised Agreements to be effective 1/1/2011.

Filed Date: 03/01/2011.

Accession Number: 20110301-5132

Comment Date: 5 p.m. Eastern Time on Tuesday, March 22, 2011

Docket Numbers: ER10-3356-002

Applicants: Entergy Arkansas, Inc.

Description: Entergy Arkansas, Inc. submits tariff filing per 35.17(b): Amendment to West Memphis Agreements to be effective 1/1/2011.

Filed Date: 03/01/2011

Accession Number: 20110301-5163

Comment Date: 5 p.m. Eastern Time on Tuesday, March 22, 2011

Docket Numbers: ER11-2046-001

Applicants: MATEP LLC

Description: MATEP LLC submits tariff filing per 35: MATEP LLC Substitute First Revised MBR Tariff to be effective 3/2/2011.

Filed Date: 03/01/2011

Accession Number: 20110301-5090

Comment Date: 5 p.m. Eastern Time on Tuesday, March 22, 2011

Docket Numbers: ER11-2047-001

Applicants: MATEP Limited Partnership

Description: MATEP Limited Partnership submits tariff filing per 35: MATEP LP Substitute First Revised MBR Tariff to be effective 3/2/2011.

Filed Date: 03/01/2011

Accession Number: 20110301-5093

Comment Date: 5 p.m. Eastern Time on Tuesday, March 22, 2011

Docket Numbers: ER11-2382-001

Applicants: NorthWestern Corporation

Description: NorthWestern Corporation submits tariff filing per 35: Compliance Filing for Late-Filed Agreements to be effective 2/14/2011.

Filed Date: 02/28/2011

Accession Number: 20110228-5116

Comment Date: 5 p.m. Eastern Time on Monday, March 21, 2011

Docket Numbers: ER11-2753-001

Applicants: Cedar Point Wind, LLC

Description: Cedar Point Wind, LLC submits tariff filing per 35.17(b): Revised Application for MBR and MBR Tariffs to be effective 4/1/2011.

Filed Date: 02/28/2011

Accession Number: 20110228-5154

Comment Date: 5 p.m. Eastern Time on Monday, March 21, 2011

Docket Numbers: ER11-2973-000

Applicants: California Independent System Operator Corporation

Description: California Independent System Operator Corporation submits tariff filing per 35.13(a)(2)(iii): 2011-02-28 CAISO's Tariff Changes to Implement Offer of Settlement to be effective 12/31/9998.

Filed Date: 03/01/2011

Accession Number: 20110301-5000

Comment Date: 5 p.m. Eastern Time on Tuesday, March 22, 2011

Docket Numbers: ER11-2974-000

Applicants: Tampa Electric Company

Description: Tampa Electric Company submits tariff filing per 35.13(a)(2)(iii): Rate Schedule No. 95 with Progress Energy Florida to be effective 3/1/2011.

Filed Date: 03/01/2011

Accession Number: 20110301-5001

Comment Date: 5 p.m. Eastern Time on Tuesday, March 22, 2011

Docket Numbers: ER11-2975-000

Applicants: PacifiCorp

Description: PacifiCorp submits tariff filing per 35.13(a)(2)(iii): OATT Revised Section 19, Schedule 7, Schedule 11 to be effective 3/2/2011.

Filed Date: 03/01/2011

Accession Number: 20110301-5137

Comment Date: 5 p.m. Eastern Time on Tuesday, March 22, 2011

Docket Numbers: ER11-2976-000

Applicants: Electric Energy, Inc.

Description: Electric Energy, Inc. submits tariff filing per 35.13(a)(2)(iii): Baseline Tariff Revision to Remove BREC Restriction to be effective 5/1/2011.

Filed Date: 03/01/2011

Accession Number: 20110301-5139

Comment Date: 5 p.m. Eastern Time on Tuesday, March 22, 2011

Docket Numbers: ER11-2977-000

Applicants: Southern California Edison Company

Description: Southern California Edison Company submits tariff filing per 35.13(a)(2)(iii): WDAT Revise Generator Interconnection Procedures to be effective 3/2/2011.

Filed Date: 03/01/2011

Accession Number: 20110301-5198

Comment Date: 5 p.m. Eastern Time on Tuesday, March 22, 2011

Take notice that the Commission received the following electric securities filings:

Docket Numbers: ES11-20-000

Applicants: PJM Interconnection L.L.C., PJM Settlement, Inc.

Description: Application of PJM Interconnection L.L.C., and PJM Settlement, Inc. for Authorization to Issue Securities.

Filed Date: 03/01/2011

Accession Number: 20110301-5130

Comment Date: 5 p.m. Eastern Time on Tuesday, March 22, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: March 1, 2011.
Nathaniel J. Davis, Sr.,
Deputy Secretary.

[FR Doc. 2011-5136 Filed 3-7-11; 8:45 am]

BILLING CODE 6717-01-P